DEPARTMENT OF ENERGY

Federal Energy Regulatory Commission

[Docket No. AD12-7-000]

Southwestern Gas Storage Technical Conference

Notice of Public Conference

On December 13, 2011, the Secretary issued formal notice that on February 16, 2012 at 9 a.m. MST, the Staff of the Federal Energy Regulatory Commission (FERC or Commission) will convene a technical conference with interested parties to discuss issues related to natural gas storage development in the southwestern United States, to be held at the Radisson Fort McDowell Resort, 10438 North Fort McDowell Rd., Scottsdale, AZ 85264 (http://www.radissonfortmcdowellresort.com).

The notice also requested that persons interested in speaking or making a presentation should indicate their interest no later than January 5, 2012.

The Commission has received such requests to speak from numerous individuals representing diverse interests associated with storage development. In addition, staff has reached out to other individuals representing differing perspectives to ensure that the matters to be discussed represent as broad a spectrum of storage-related matters as possible.

Attached is an agenda for the conference. If you have any questions about the upcoming conference or if you would like additional information, please contact Berne Mosley in the Office of Energy Projects, phone: (202) 502-8700, email: berne.mosley@ferc.gov.

Dated: January 18, 2012.
Kimberly D. Bose,
Secretary.

[FR Doc. 2012-1463 Filed 1-24-12; 8:45 am]

BILLING CODE 6717-01-P